DEPARTMENT OF THE INTERIOR

Bureau of Land Management

[CACA 048649, LLCAD06000 L51010000 FX0000 LVRWB09B2520]

Notice of Intent To Prepare an Environmental Impact Statement for the Proposed First Solar Desert Sunlight Solar Farm Project, Riverside County, CA and Possible Land Use Plan Amendment

Agency: Bureau of Land Management, Interior.

ACTION: Notice of intent.

SUMMARY: In compliance with the National Environmental Policy Act (NEPA) of 1969, as amended, and the Federal Land Policy and Management Act of 1976, as amended, the Bureau of Land Management (BLM) Palm Springs South Coast Field Office, Palm Springs, California, intends to prepare an Environmental Impact Statement (EIS) for First Solar Inc.'s application for a right-of-way authorization to develop a solar photovoltaic generating facility. The EIS may also support an amendment to the California Desert Conservation Area (CDCA) Plan (1980), as amended; by this notice the BLM is announcing the beginning of the scoping process to solicit public comments and identify issues.

DATES: This notice initiates the public scoping process for the EIS and possible plan amendment. Comments on issues may be submitted in writing until February 12, 2010. The date(s) and location(s) of any scoping meetings will be announced at least 15 days in advance through the local media, and the BLM Web site at: http://www.blm.gov/ca/st/en/fo/palmsprings.html. In order to be considered in the Draft EIS, all comments must be received prior to the close of the scoping period or 15 days after the last public meeting, whichever is later. The BLM will provide additional opportunities for public participation upon publication of the Draft EIS.

ADDRESSES: You may submit comments on issues and planning criteria related to the First Solar Desert Sunlight Solar Farm Draft EIS/Plan Amendment by any of the following methods:

• Web site: http://www.blm.gov/ca/st/en/fo/palmsprings.html;

• E-mail: CAPSSolarFirstSolarDesertSunlight@blm.gov;

• Fax: (760) 833-7199; or

• Mail: Allison Shaffer, Project Manager, Palm Springs South Coast Field Office, BLM, 1201 Bird Center Drive, Palm Springs, California 92262.

Documents pertinent to this proposal may be examined at the Palm Springs South Coast Field Office.

FOR FURTHER INFORMATION CONTACT: For further information or to have your name added to our mailing list, contact Allison Shaffer, BLM Project Manager, telephone (760) 833-7100; address Palm Springs South Coast Field Office, BLM, 1201 Bird Center Drive, Palm Springs, California 92262; e-mail CAPSSolarFirstSolarDesertSunlight@blm.gov.

SUPPLEMENTARY INFORMATION: The applicant, First Solar Inc., has requested a right-of-way authorization to develop a solar photovoltaic generating facility with a proposed output of 550 megawatts and a project footprint of approximately 4,410 acres. The proposed project would be located on BLM-administered lands in Riverside County approximately 6 miles north of the rural community of Desert Center, California. The overall site layout and generalized land uses would include a substation, an administration building, operations and maintenance facilities, a transmission line, and temporary construction lay down areas. The project's 230-kilovolt (kV) generation interconnection transmission line also would be located on BLM-administered lands and would utilize a planned 230- to 500-kV substation (referred to as the Red Bluff substation). The Red Bluff substation would connect the project to the Southern California Edison regional transmission grid. Should the project be approved, the interconnection transmission line would be about 9 miles to about 13 miles long, depending on the alternative selected. If approved, construction would begin in late 2010 and would take approximately 41 months to complete.

The purpose of the public scoping process is to determine relevant issues that will influence the scope of the environmental analysis, including alternatives, and guide the process for developing the EIS. At present, the BLM has identified the following preliminary issues: Air quality, biological resources, recreation, cultural resources, water resources, geological resources, special management areas, land use, noise, paleontological resources, public health, socioeconomic, soils, traffic and transportation, visual resources, and other issues. Authorization of this proposal may require amendment of the CDCA Plan. By this notice, the BLM is complying with requirements in 43 CFR 1610.2(c) to notify the public of potential amendments to land use plans, based on the findings of the EIS. If a land use plan amendment is necessary, the BLM will integrate the land use planning process with the NEPA process for this project.

The BLM will use and coordinate the NEPA commenting process to satisfy the public involvement process for Section 106 of the National Historic Preservation Act (16 U.S.C. 470f) as provided for in 36 CFR 800.2(d)(3). Native American tribal consultations will be conducted and tribal concerns, including impacts on Indian trust assets, will be given appropriate consideration. Federal, State, and local agencies—along with other stakeholders who may be interested or affected by the BLM's decision on this project—are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Thomas Pogacnik,
Deputy State Director, California.

Authority: 40 CFR 1501.7 and 43 CFR 1610.2.

[FR Doc. 2010-403 Filed 1-12-10; 8:45 am]

BILLING CODE 4310-40-P